DEPARTMENT OF THE INTERIOR

Bureau of Indian Affairs

Office of Federal Acknowledgment; Final Determination Against Federal Acknowledgment of the Snohomish Tribe of Indians

AGENCY: Assistant Secretary for Indian Affairs, Interior.

ACTION: Notice of final determination.

SUMMARY: Pursuant to section 83.10(m), notice is hereby given that the Assistant Secretary—Indian Affairs (AS-IA) declines to acknowledge a group known as the Snohomish Tribe of Indians (STI), c/o Mr. William Matheson, Suite 201, 144 Railroad Avenue, Edmunds, Washington 98020, as an Indian tribe within the meaning of Federal law. This notice is based on a determination that the petitioning group does not satisfy all seven of the criteria set forth in part 83 of title 25 of the Code of Federal Regulations (25 CFR part 83), specifically criteria 83.7(a), (b), (c), and (e), and therefore does not meet the requirements for a government-to-government relationship with the United States.

DATES: This determination is final and will become effective March 9, 2004, pursuant to section 83.10(l)(4), unless a request for reconsideration is filed pursuant to section 83.11.

FOR FURTHER INFORMATION CONTACT: R. Lee Fleming, Director, Office of Federal Acknowledgment, (202) 513-7650.

SUPPLEMENTARY INFORMATION: This notice is published in the exercise of authority delegated by the Secretary of the Interior to the AS-IA by 209 DM 8.

A notice of the proposed finding (PF) to decline to acknowledge the STI was published in the Federal Register on April 11, 1983 (48 FR 15540-1).

This final determination (FD) is made following a review of the STI's response to the PF, the public comments on the PF, and the STI's response to the public comments. It reaches conclusions based on a review and analysis of the existing record, incorporating the evidence considered for the PF, and new evidence in the form of documentation and arguments received from the petitioner and third parties. This notice is based on a determination that the group does not satisfy all seven mandatory criteria for acknowledgment at sections 83.7 (a)-(g).

Criterion 83.7(a): Criterion 83.7(a) requires that the petitioner be identified as an American Indian entity on a substantially continuous basis since 1900. The petitioner has not demonstrated that it meets the requirements before 1950. The petitioner claims that its mostly off-reservation ancestors were part of the historical Snohomish tribe primarily based at the Tulalip Reservation and remained so until 1935, when the historical Snohomish tribe and other tribes at this reservation reorganized as the Tulalip Tribes of the Tulalip Reservation under the Indian Reorganization Act (IRA). Available evidence, however, shows that the petitioner's ancestors were not part of the historical Snohomish tribe. Thus, identifications of the historical Snohomish tribe on the Tulalip Reservation before 1935 did not constitute identifications for the petitioner. In addition, there was no identification of an off-reservation group of STI ancestors between 1900 and 1935.

References to a claims organization called the “Snohomish Tribe of Indians,” which included a few of the STI's off-reservation ancestors, occurred in the available evidence only in 1917. The organization was referred to as a Snohomish Indian entity only by a few of its members and a lawyer hired as its spokesperson, which is not evidence within the meaning of 83.7(a). External observers did not identify this group as an American Indian entity. Some of the petitioner's off-reservation ancestors were part of another claims organization called the “Snohomish Tribe of Indians” that existed from 1926 to 1935. This organization's membership included reservation Snohomish, off-reservation ancestors of the petitioning group, and other non-reservation Snohomish descendants. External observers identified this group mainly in its capacity as a claims organization that represented individuals with Indian ancestry. Thus identifications of the 1926 Snohomish claims organization did not constitute identifications of a predecessor group of the petitioner. The 1926 Snohomish claims organization ceased to exist in 1935.

There are no available identifications as an entity of a separate group of the petitioner's ancestors from 1935 to 1949, when the petitioner claims such an entity existed following the reorganization of the Tulalip Tribes of the Tulalip Reservation under the IRA. The evidence shows that the petitioner has not been identified as an American Indian entity from 1900 to 1949 (49 years) and has been identified as an American Indian entity only since 1950, when it originally formed to pursue claims before the Indian Claims Commission (ICC). Therefore, the petitioner does not meet the requirements of criterion 83.7(a).

Criterion 83.7(b): The petitioner has not demonstrated that it meets the requirements of criterion 83.7(b), which requires that a predominant portion of the petitioning group comprises a distinct community and has existed as a community from first sustained contact with non-Indians until the present. In its response to the PF, the petitioner submitted documents pertaining to activities from 1855 until 1999. The newly-submitted documents demonstrated some additional informal social relationships among the petitioner's ancestors on the Quimper Peninsula in Washington State, as well as some additional interaction between some STI ancestors and non-STI Indian households in the Sultan, Washington, area in the late 19th century. However, the evidence submitted by the petitioner, in conjunction with the other evidence in the record, does not demonstrate community as defined under criterion 83.7(b) at any time from first sustained contact with non-Indians to the present.

The petitioner's members largely descend from a number of mid- and late-19th century marriages between Indian women and non-Indian men. Few subsequent marriages have occurred either among members of STI or between members of STI and other groups with Indian ancestry, and thus the group lacks the kinship ties that such marriages create.

The petitioner has not demonstrated that a significant number of its ancestors maintained relationships with the historical Snohomish tribe located on the Tulalip Reservation, or with other Snohomish descendants living off the Tulalip Reservation prior to the formation of the 1926 Snohomish claims organization. This claims organization also included non-Snohomish Indian descendants who are ancestors of many of the current petitioner's members.

Interviews and affidavits submitted by the petitioner provide no evidence for community among the petitioner's members from 1935 to 1999. Interviews conducted by the Department in 2003 indicate that most current members do not regularly interact with each other outside of events sponsored by the formal STI organization. The evidence does not demonstrate that the petitioner has existed as a community historically or presently. Therefore, the petitioner has not met criterion 83.7(b).

Criterion 83.7(c): Criterion 83.7(c) requires that the petitioner has maintained political influence or authority over its members as an autonomous entity from first sustained contact with non-Indians to the present. A review of the available evidence does not demonstrate that the petitioner has met the requirements of this criterion at any time. The petitioner claims that its off-reservation ancestors were part of the historical Snohomish tribe until 1935, and that reservation and off-reservation Snohomish leaders worked with each other until that year. The available evidence does not show that such political cooperation took place between the petitioner's off-reservation ancestors and the reservation Snohomish before 1926. In addition, the evidence does not demonstrate any separate political leadership, formal or informal, existed for any separate off-reservation group of the petitioner's ancestors before 1917. Some of the petitioner's ancestors were part of a 1917 claims organization called the “Snohomish Tribe of Indians,” which was described in the available evidence for that year only and had no connection to the reservation Snohomish. The available evidence does not demonstrate that this 1917 organization exercised political leadership or authority over petitioner's ancestors.

Many of the petitioner's ancestors also were part of the 1926 Snohomish claims organization, which included both reservation and non-reservation Snohomish, including some of the STI ancestors. This organization had few functions beyond seeking claims for Indians of Snohomish descent, and did not represent a formalization of the tribal political structure for the historical Snohomish tribe. During the time the 1926 Snohomish claims group existed, the reservation Snohomish continued to have their own political organization and authority. There is no available evidence that this 1926 Snohomish claims organization exerted any political influence over an actual off-reservation entity of the petitioner's ancestors. The 1926 Snohomish claims organization ceased to appear in the available evidence in 1935, after the group lost its claims suit. Therefore, the available evidence does not demonstrate that the petitioner has met the requirements of 83.7(c) from first sustained contact with non-Indians to 1935.

There is no evidence in the record to demonstrate that the 1926 Snohomish claims organization continued after 1935. From 1935 until 1950, there is no available evidence to demonstrate that the petitioner maintained any type of political organization, formal or informal. In 1950, the petitioner formed the “Snohomish Tribe of Indians” in order to pursue claims before the ICC. There is no available evidence to support the petitioner's contention that the 1950 organization was a continuance of the 1926 Snohomish claims organization. Unlike the earlier organization, the 1950 organization was composed almost entirely of off-reservation STI ancestors. The group's leadership concentrated their energy on the claims lawsuit, with some additional discussion and concern over hunting and fishing rights. The group's leadership also joined some “intertribal” organizations. The group continued to pursue the claims issue, which was eventually settled in the late 1960's. The leadership pursued obtaining land for a reservation in 1970, and filed a petition for Federal acknowledgment in 1975. Between 1983 and 2003, the group's leaders have continued to pursue Federal acknowledgment and appear to have become somewhat more active in advocating on behalf of some members. However, the evidence presented by the petitioner has not demonstrated that the leadership maintained a bilateral relationship with the majority of the group, or that most of the members were involved in or knowledgeable about the group's political processes. The evidence does not demonstrate that the actions taken by the leadership were of importance to the majority of the group. The available evidence does not demonstrate that the petitioner maintained political authority or influence over its members since its formation in 1950. Therefore, the petitioner does not meet the requirements of criterion 83.7(c).

Criterion 83.7(d): The petitioner's 1978 constitution and by-laws and 1978 enrollment ordinance were found sufficient to meet the requirements of 83.7(d) in the PF. The Department obtained a copy of the petitioner's governing documents amended and certified on September 18, 1994, which describe its membership criteria and current governing procedures. Because the petitioner has a constitution and an enrollment ordinance, certified by its governing body, that describe its membership criteria and the procedures through which it governs its affairs and its members, the petitioner meets the requirements of criterion 83.7(d).

Criterion 83.7(e): The PF found that the STI did not meet criterion 83.7(e)(1) because a significant percentage of STI members could not demonstrate Snohomish ancestry. Only 59 percent of STI's 836 members, descending from about 38 or 39 different family lines at the time of the PF, had documented descent from the historical Snohomish tribe.

The PF found that the STI provided an official membership list, separately certified by the group's governing body, as required by 83.7(e)(2). For the FD, the petitioner submitted a membership list, dated March 12, 1999, that identified 1,390 members and was virtually identical with the membership list used for the PF except for the addition of new members. The petitioner's governing body certified the updated membership list by resolution as required under criterion 83.7(e)(2). After auditing the petitioner's membership files and correcting the discrepancies in the 1999 membership list, the current adjusted STI membership totaled 1,113.

Based on new information submitted by the petitioner and the Tulalip Tribes of the Tulalip Reservation, or located by the Department, and other evidence in the record, the Department re-evaluated the STI family lines for evidence of descent from the historical Snohomish tribe. Twenty of the STI family lines, identified as descending from the historical Snohomish tribe in the PF, remain unchanged. Two family lines not previously determined to demonstrate Snohomish ancestry now have been sufficiently documented to show descent from the historical Snohomish tribe, and two “new” family lines, originally considered as part of pre-existing STI family lines, also were found to demonstrate Snohomish descent.

Based on the analysis described above, the evidence for this finding shows that 69 percent of the STI membership (763 of 1,113 members) have documented descent from the historical Snohomish tribe. The petitioner has not demonstrated that the remaining 31 percent of its membership (350 of 1,113 members) are of Snohomish descent or are descended from other Indian tribes that had amalgamated with the petitioner's Snohomish ancestors at some point in history to form a separate and distinct entity. The evidence does not demonstrate that the petitioner as a whole descends from the historical Snohomish tribe. Therefore this FD concludes that the petitioner does not meet criterion 83.7(e).

Criterion 83.7(f): This FD affirms the conclusion of the PF that the petitioner is not principally composed of members of another acknowledged North American Indian tribe. Since the PF, the petitioner obtained enrollment statements from most of its members, who declared that they did not have membership in any other federally acknowledged tribe. Examination of the membership lists of federally recognized tribes in the area did not reveal any names of STI members.

Criterion 83.7(g): This FD affirms the conclusion of the PF that neither the petitioner nor its members are the subject of congressional legislation that has expressly terminated or forbidden the Federal relationship.

Under Section 83.10(m), the AS-IA is required to decline to acknowledge that a petitioner is an Indian tribe if it fails to satisfy any one of the criteria in Section 83.7. The petitioner did not submit evidence sufficient to meet criteria 83.7(a), (b), (c), and (e), and, therefore, does not satisfy the requirements for acknowledgment.

This determination is final and will become effective 90 days from publication of this notice, unless a request for reconsideration is filed pursuant to section 83.11. The petitioner or any interested party may file a request for reconsideration of this determination with the Interior Board of Indian Appeals (section 83.11(a)(1)). The petitioner's or interested party's request must be received no later than March 9, 2004 of the AS-IA's determination in the Federal Register (section 83.11(a)(2)).

Dated: December 2, 2003.
Aurene M. Martin,
Principal Deputy Assistant Secretary—Indian Affairs.

[FR Doc. 03-30575 Filed 12-9-03; 8:45 am]

BILLING CODE 4310-45-P